DEPARTMENT OF THE INTERIOR

National Park Service

[[NPS-WASO-NAGPRA-23136: PPWOCRADN0-PCU00RP14.R50000]

Notice of Inventory Completion: San Diego Museum of Man, San Diego, CA

AGENCY: National Park Service, Interior.

ACTION: Notice.

SUMMARY: The San Diego Museum of Man has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to the San Diego Museum of Man. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the San Diego Museum of Man at the address in this notice by June 2, 2017.

ADDRESSES: Ben Garcia, Deputy Director, San Diego Museum of Man, 1350 El Prado, San Diego, CA 92101, telephone (619) 239-2001 ext. 17, email bgarcia@museumofman.org.

SUPPLEMENTARY INFORMATION: Notice is here given in accordance with the Native American Graves Protection and Repatriation Act (NAGPRA), 25 U.S.C. 3003, of the completion of an inventory of human remains and associated funerary objects under the control of the San Diego Museum of Man, San Diego, CA. The human remains and associated funerary objects were removed from the vicinity of Larsen Bay, Kodiak Island Borough, AK.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains and associated funerary objects was made by the San Diego Museum of Man professional staff in consultation with representatives of the Alutiiq Museum and Archaeological Repository on behalf of the Native Village of Larsen Bay.

History and Description of the Remains

In 1932, human remains representing, at minimum, one individual were recovered from the vicinity of Larsen Bay, Kodiak Island Borough, AK. No other provenience information was available. The human remains were donated to the San Diego Museum of Man by Hugh Logan in 1934. An examination of the human remains by the San Diego Museum of Man physical anthropology professional staff determined the individual to be a Native Alaskan individual of indeterminate sex and age. No known individual was identified. The 30 associated funerary objects are 1 whalebone wedge with grease pit, 1 whalebone wedge, 4 modified whalebone tools, 1 oil lamp fragment, 1 split cobble scraper, 1 stone hone, 6 sinkers, 1 stone tool, 3 hammerstones, 1 oil lamp preform, 1 tri-notched cobble pounder, and 9 stone knives.

Archeological data indicates that modern Alutiiq people evolved from prehistoric societies of the Kodiak region, and can trace their ancestry back over 7,500 years in the region. The cultural affiliation of this individual is determined to be to the Native Village of Larsen Bay.

Determinations Made by the San Diego Museum of Man

Officials of the San Diego Museum of Man have determined that:

• Pursuant to 25 U.S.C. 3001(9), the human remains described in this notice represent the physical remains of one individual of Native American ancestry.

• Pursuant to 25 U.S.C. 3001(3)(A), the 30 objects described in this notice are reasonably believed to have been placed with or near individual human remains at the time of death or later as part of the death rite or ceremony.

• Pursuant to 25 U.S.C. 3001(2), there is a relationship of shared group identity that can be reasonably traced between the Native American human remains and associated funerary objects and the Native Village of Larsen Bay.

Additional Requestors and Disposition

Lineal descendants or representatives of any Indian tribe or Native Hawaiian organization not identified in this notice that wish to request transfer of control of these human remains and two associated funerary objects should submit a written request with information in support of the request to Ben Garcia, Deputy Director, San Diego Museum of Man, 1350 El Prado, San Diego, CA 92101, telephone (619) 239-2001 ext. 17, email bgarcia@museumofman.org, by June 2, 2017. After that date, if no additional requestors have come forward, transfer of control of the human remains and associated funerary objects to the Native Village of Larsen Bay may proceed.

The San Diego Museum of Man is responsible for notifying the Native Village of Larsen Bay that this notice has been published.

Dated: March 22, 2017.
Melanie O'Brien,
Manager, National NAGPRA Program.

[FR Doc. 2017-08877 Filed 5-2-17; 8:45 am]

BILLING CODE 4312-52-P